ENVIRONMENTAL PROTECTION AGENCY

[ER-FRL-6630-8]

Environmental Impact Statements; Notice of Availability

Responsible Agency: Office of Federal Activities, General Information (202) 564-7167 or http://www.epa.gov/compliance/nepa/. Weekly receipt of Environmental Impact Statements Filed June 24, 2002 Through June 28, 2002 Pursuant to 40 CFR 1506.9.

EIS No. 020270, DRAFT SUPPLEMENT, NRC, PA, Peach Bottom Atomic Power Station Unit 2 and 3, Renewal of the Operating License for Nuclear Plants, NUREG-1437 Supplement 10, Located on the Banks of the Susquehanna River, York County, PA, Comment Period Ends: September 17, 2002, Contact: Duke Wheeler (301) 415-1444.

EIS No. 020271, DRAFT SUPPLEMENT, COE, KS, John Redmond Lake (JRL) Reallocation of Water Supply Storage Project, Equitable Redistribution of Water Storage between the Flood Control Pool and the Conservation Pools, Neosho River, Marion and Council Grove Lakes, Coffey and Lyon Counties, KS, Comment Period Ends: August 19, 2002, Contact: James C. Randolph (918) 669-4396.

EIS No. 020272, FINAL EIS, FRC, ME, Presumpscot River Projects, Relicensing of Five Hydroelectric Projects for Construction and Operation, Dundee Project (FERC No. 2942); Gambo Project (FERC No. 2931); Little Falls Project (FERC No. 2932); Mallison Falls Project (FERC No. 2941) and Saccarappa Project (FERC No. 2897), Cumberland County, ME, Wait Period Ends: August 05, 2002, Contact: Allan Creamer (202) 219-0365. This document is available on the Internet at: http://www.ferc.fed.us/online/rims.htm.

EIS No. 020273, FINAL EIS, FHW, NE, Lincoln South and East Beltways Project, Circumferential Transportation System Completion linking I-80 on the north and US 77 on the west, Funding and US Army COE Section 404 Permit and NPDES Permit Issuance, Lancaster County, NE, Wait Period Ends:August 05, 2002, Contact: Edward Kosola (402) 437-5973.

EIS No. 020274, DRAFT EIS, BLM, AK, Renewal of Federal Grant for the Trans-Alaska Pipeline System, Right-of-Way, Approval, AK, Comment Period Ends: August 20, 2002, Contact: Rob McWhorter (907) 257-1355.

EIS No. 020275, DRAFT EIS, GSA, WI, Badger Army Ammunition Plant, Property Disposal, Implementation, Townships of Sumpter and Merrimac, Sauk County, WI, Comment Period Ends:August 19, 2002, Contact: Mark N. Lundgren (312) 353-0302.

EIS No. 020276, FINAL SUPPLEMENT, FRC, WA, Condit Hydroelectric (No. 2342) Project, Updated Information concerning an Application to Amend the Current License to Extend the License Term to October 1, 2006, White Salmon River, Skamania and Klickitat Counties, WA, Wait Period Ends: August 05, 2002, Contact: Nicholas Jayjack (202) 219-2825.

EIS No. 020277, DRAFT EIS, FHW, NC, US-17 Interstate Corridor Improvements, south of NC-1127 (Possum Track Road) to north of NC-1418 (Roberson Road) Funding and Permit Issuance, City of Washington and Town of Chocowinity Vicinity, Beaufort and Pitt Counties, NC, Comment Period Ends: August 30, 2002, Contact: Nicholas L. Graf (919) 856-4346.

EIS No. 020278, DRAFT EIS, FHW, NY, NY-17 Highway Reconstruction, Bridge Reconstruction and Modification, Funding and US Army COE Section 404 Permit Issuance, Town and Village of Horseheads, Chemung County, NY, Comment Period Ends: August 19, 2002, Contact: Robert E. Arnold (518) 431-4127.

EIS No. 020279, FINAL EIS, GSA, GA, Chamblee Campus Centers for Disease Control and Prevention (CDC) Expansion, Atlanta Metro Area, City of Chamblee, Dekalb County, GA, Wait Period Ends: August 05, 2002, Contact: Phil Youngberg (404) 562-0787.

EIS No. 020280, FINAL EIS, FRC, MI, WI, Bond Falls Project, Issuing a New License for Existing Hydroelectric License, (FERC No. 1864-005) Ontonagon River Basin, Ontonagon and Gogebic Counties, MI and Vilas County, WI, Wait Period Ends:August 05, 2002, Contact: Patrick K. Murphy (202) 219-2659. This document is available on the Internet at: http://www.ferc.fed.us/online/rims.htm.

EIS No. 020281, DRAFT EIS, USA, UT, Activities Associated with Future Programs at US Army Dugway Proving Ground, Implementation, Tooele and Jaub Counties, UT, Comment Period Ends: August 19, 2002, Contact: Nicholas J. Cavallaro (703) 697-8995.

EIS No. 020282, FINAL EIS, COE, NJ, Meadowlands Mills Project, Construction of a Mixed-Use Commercial Development, Permit Application Number 95-07-440-RS, US Army COE Section 10 and 404 Permit Issuance, Boroughs of Carlstadt and Monnachie, Township of South Hackensack, Bergen County, NJ, Wait Period Ends: August 05, 2002, Contact: Steven Schumach (212) 264-0183.

EIS No. 020283, FINAL EIS, FTA, WA, Sound Transit, Lakewood-to-Tacoma Commuter Rail and WA-512 Park and Ride Expansion, Construction and Operation, Central Puget Sound Regional Transit Authority, City of Tacoma and City of Lakewood, WA, Wait Period Ends: August 05, 2002, Contact: Rick Krochalis (206) 220-7954.

EIS No. 020284, FINAL EIS, AFS, MT, White Pine Creek Project, Timber Harvest, Prescribe Fire Burning, Watershed Restoration and Associated Activities, Implementation, Kootenai National Forest, Cabinet Ranger District, Sanders County, MT, Wait Period Ends: August 05, 2002, Contact: John Gubel (406) 827-3533.

Dated: July 1, 2002.
B. Katherine Biggs,
Associate Division Director, NEPA Compliance Division, Office of Federal Activities.

[FR Doc. 02-16875 Filed 7-3-02; 8:45 am]

BILLING CODE 6560-50-P